DEPARTMENT OF ENERGY

Federal Energy Regulatory Commission

Combined Notice of Filings #1

Take notice that the Commission received the following electric corporate filings:

Docket Numbers: EC23-99-000.

Applicants: Northern Indiana Public Service Company LLC, Dunns Bridge Solar Center, LLC, Indiana Crossroads Wind Farm LLC, Meadow Lake Solar Park LLC, Rosewater Wind Farm LLC.

Description: Joint Application for Authorization Under Section 203 of the Federal Power Act of Northern Indiana Public Service Company LL, et al.

Filed Date: 6/26/23.

Accession Number: 20230626-5191.

Comment Date: 5 p.m. ET 7/17/23.

Take notice that the Commission received the following Complaints and Compliance filings in EL Dockets:

Docket Numbers: EL23-79-000.

Applicants: FuelCell Energy, Inc.

Description: Petition for Declaratory Order of FuelCell Energy, Inc.

Filed Date: 6/23/23.

Accession Number: 20230623-5191.

Comment Date: 5 p.m. ET 7/24/23.

Take notice that the Commission received the following electric rate filings:

Docket Numbers: ER10-2654-001; ER10-2334-008; ER11-3406-009; ER12-1923-008; ER12-1925-008; ER22-2827-003; ER22-2950-001; ER23-108-001.

Applicants: MD Solar 2, LLC, Vitol PA Wind Marketing LLC, Bluegrass Solar, LLC, Patton Wind Farm, LLC, Big Savage, LLC, Highland North LLC, Big Sky Wind, LLC, Vitol Inc.

Description: Triennial Market Power Analysis for Northeast Region of Vitol Inc., et al.

Filed Date: 6/26/23.

Accession Number: 20230626-5195.

Comment Date: 5 p.m. ET 8/25/23.

Docket Numbers: ER10-3050-012; ER10-3053-012.

Applicants: Whitewater Hill Wind Partners, LLC, Cabazon Wind Partners, LLC.

Description: Notice of Change in Status of Cabazon Wind Partners, LLC, et al.

Filed Date: 6/26/23.

Accession Number: 20230626-5189.

Comment Date: 5 p.m. ET 7/17/23.

Docket Numbers: ER13-342-018.

Applicants: CPV Shore, LLC.

Description: Triennial Market Power Analysis for Northeast Region of CPV Shore, LLC.

Filed Date: 6/27/23.

Accession Number: 20230627-5109.

Comment Date: 5 p.m. ET 8/28/23.

Docket Numbers: ER16-700-008.

Applicants: CPV Towantic, LLC.

Description: Triennial Market Power Analysis for Northeast Region of CPV Towantic, LLC.

Filed Date: 6/27/23.

Accession Number: 20230627-5111.

Comment Date: 5 p.m. ET 8/28/23.

Docket Numbers: ER16-701-007.

Applicants: CPV Valley, LLC.

Description: Triennial Market Power Analysis for Northeast Region of CPV Valley, LLC.

Filed Date: 6/27/23.

Accession Number: 20230627-5108.

Comment Date: 5 p.m. ET 8/28/23.

Docket Numbers: ER17-1531-010.

Applicants: CPV Fairview, LLC.

Description: Triennial Market Power Analysis for Northeast Region of CPV Fairview, LLC.

Filed Date: 6/27/23.

Accession Number: 20230627-5105.

Comment Date: 5 p.m. ET 8/28/23.

Docket Numbers: ER17-1840-001; ER15-2534-001; ER22-729-002; ER22-784-003.

Applicants: CPV Maple Hill Solar, LLC, CPV Retail Energy LP, Saddleback Ridge Wind, LLC, Canton Mountain Wind, LLC.

Description: Updated Triennial Market Power Analysis for Northeast Region of CPV Canton Mountain Wind, LLC, et al.

Filed Date: 6/27/23.

Accession Number: 20230627-5116.

Comment Date: 5 p.m. ET 8/28/23.

Docket Numbers: ER18-803-001.

Applicants: EDF Trading North America, LLC.

Description: Triennial Market Power Analysis for Northeast Region of EDF Trading North America, LLC.

Filed Date: 6/27/23.

Accession Number: 20230627-5110.

Comment Date: 5 p.m. ET 8/28/23.

Docket Numbers: ER22-2580-002.

Applicants: CPV Three Rivers, LLC.

Description: Triennial Market Power Analysis for Northeast Region of CPV Three Rivers, LLC.

Filed Date: 6/27/23.

Accession Number: 20230627-5112.

Comment Date: 5 p.m. ET 8/28/23.

Docket Numbers: ER23-1000-002.

Applicants: ISO New England Inc., The Narragansett Electric Company.

Description: Tariff Amendment: ISO New England Inc. submits tariff filing per 35.17(b): ISO New England Inc. and The Narragansett Electric Company; ER23-1000-000 to be effective 12/31/9998.

Filed Date: 6/27/23.

Accession Number: 20230627-5119.

Comment Date: 5 p.m. ET 7/18/23.

Docket Numbers: ER23-1003-002.

Applicants: ISO New England Inc., The Narragansett Electric Company.

Description: Compliance filing: ISO New England Inc. submits tariff filing per 35: ISO New England Inc. and The Narragansett Electric Company; ER23-1003-000 to be effective 12/31/9998.

Filed Date: 6/27/23.

Accession Number: 20230627-5123.

Comment Date: 5 p.m. ET 7/18/23.

Docket Numbers: ER23-1261-001.

Applicants: Dynegy Marketing and Trade, LLC.

Description: Dynegy Marketing and Trade, LLC submits a compliance filing to the May 5, 2023 Commission order, detailing its actual regulatory costs incurred in connection with the cost recovery.

Filed Date: 6/22/23.

Accession Number: 20230622-5150.

Comment Date: 5 p.m. ET 7/13/23.

Docket Numbers: ER23-1668-001.

Applicants: Estrella Solar, LLC.

Description: Tariff Amendment: Estrella Solar MBR Tariff to be effective 5/1/2023.

Filed Date: 6/26/23.

Accession Number: 20230626-5139.

Comment Date: 5 p.m. ET 7/6/23.

Docket Numbers: ER23-1669-001.

Applicants: Raceway Solar 1, LLC.

Description: Tariff Amendment: Raceway Solar, 1 MBR Tariff to be effective 5/1/2023.

Filed Date: 6/26/23.

Accession Number: 20230626-5140.

Comment Date: 5 p.m. ET 7/6/23.

Docket Numbers: ER23-1829-000.

Applicants: Shady Oaks Wind 2, LLC.

Description: Supplement to May 4, 2023, Shady Oaks Wind 2, LLC submits tariff filing.

Filed Date: 6/23/23.

Accession Number: 20230623-5187.

Comment Date: 5 p.m. ET 7/14/23.

Docket Numbers: ER23-1847-001.

Applicants: The Potomac Edison Company, PJM Interconnection, L.L.C.

Description: Tariff Amendment: The Potomac Edison Company submits tariff filing per 35.17(b): Potomac Submits Amendment of Borderline Service Agreement, SA No. 6408 to be effective 6/1/2010.

Filed Date: 6/27/23.

Accession Number: 20230627-5095.

Comment Date: 5 p.m. ET 7/18/23.

Docket Numbers: ER23-2239-000.

Applicants: HQC Solar Holdings 1, LLC.

Description: Petition for Limited Waiver of HQC Solar Holdings 1, LLC.

Filed Date: 6/20/23.

Accession Number: 20230620-5304.

Comment Date: 5 p.m. ET 7/5/23.

Docket Numbers: ER23-2259-000.

Applicants: Southwest Power Pool, Inc.

Description: § 205(d) Rate Filing: 4092 NPPD Surplus Interconnection GIA to be effective 6/23/2023.

Filed Date: 6/26/23.

Accession Number: 20230626-5132.

Comment Date: 5 p.m. ET 7/17/23.

Docket Numbers: ER23-2260-000.

Applicants: El Paso Electric Company.

Description: Tariff Amendment: Termination of Service Agreement No. 316, EPE LGIA with Great Divide Wind Farm to be effective 6/2/2023.

Filed Date: 6/27/23.

Accession Number: 20230627-5001.

Comment Date: 5 p.m. ET 7/18/23.

Docket Numbers: ER23-2261-000.

Applicants: Midcontinent Independent System Operator, Inc., Wabash Valley Power Association, Inc.

Description: § 205(d) Rate Filing: Midcontinent Independent System Operator, Inc. submits tariff filing per 35.13(a)(2)(iii: 2023-06-27_Revisions to Schs 7, 8, and 9 to add WVPA in AES Indiana Pricing Zone to be effective 7/1/2023.

Filed Date: 6/27/23.

Accession Number: 20230627-5002.

Comment Date: 5 p.m. ET 7/18/23.

Docket Numbers: ER23-2262-000.

Applicants: Midcontinent Independent System Operator, Inc., Wabash Valley Power Association, Inc.

Description: § 205(d) Rate Filing: Midcontinent Independent System Operator, Inc. submits tariff filing per 35.13(a)(2)(iii: 2023-06-27_Rate Schedule 57 AES Indiana-WVPA JPZ Revenue Allocation Agreement to be effective 7/1/2023.

Filed Date: 6/27/23.

Accession Number: 20230627-5005.

Comment Date: 5 p.m. ET 7/18/23.

Docket Numbers: ER23-2263-000.

Applicants: Fowler Ridge Wind Farm LLC.

Description: Initial rate filing: Certificate of Concurrence to be effective 8/5/2013.

Filed Date: 6/27/23.

Accession Number: 20230627-5027.

Comment Date: 5 p.m. ET 7/18/23.

Docket Numbers: ER23-2264-000.

Applicants: Trailstone Renewables, LLC.

Description: § 205(d) Rate Filing: Normal filing 2023 to be effective 6/28/2023.

Filed Date: 6/27/23.

Accession Number: 20230627-5031.

Comment Date: 5 p.m. ET 7/18/23.

Docket Numbers: ER23-2265-000.

Applicants: TrailStone Energy Marketing, LLC.

Description: § 205(d) Rate Filing: Normal filing 2023 to be effective 6/28/2023.

Filed Date: 6/27/23.

Accession Number: 20230627-5036.

Comment Date: 5 p.m. ET 7/18/23.

Docket Numbers: ER23-2266-000.

Applicants: Southwest Power Pool, Inc.

Description: § 205(d) Rate Filing: Revisions to Attachment AE Concerning Resource Settlements to be effective 12/31/9998.

Filed Date: 6/27/23.

Accession Number: 20230627-5037.

Comment Date: 5 p.m. ET 7/18/23.

Docket Numbers: ER23-2267-000.

Applicants: CPV Canton Mountain Wind, LLC.

Description: § 205(d) Rate Filing: Revised Market-Based Rate Tariff Filing to be effective 6/28/2023.

Filed Date: 6/27/23.

Accession Number: 20230627-5038.

Comment Date: 5 p.m. ET 7/18/23.

Docket Numbers: ER23-2268-000.

Applicants: CPV Saddleback Ridge Wind, LLC.

Description: § 205(d) Rate Filing: Revised Market-Based Rate Tariff Filing to be effective 6/28/2023.

Filed Date: 6/27/23.

Accession Number: 20230627-5040.

Comment Date: 5 p.m. ET 7/18/23.

Docket Numbers: ER23-2269-000.

Applicants: PacifiCorp.

Description: § 205(d) Rate Filing: Seventh Amended and Restated TSOA, Rate Schedule No. 297 to be effective 8/27/2023.

Filed Date: 6/27/23.

Accession Number: 20230627-5056.

Comment Date: 5 p.m. ET 7/18/23.

Docket Numbers: ER23-2270-000.

Applicants: Southwest Power Pool, Inc.

Description: § 205(d) Rate Filing: 1977R19 Nemaha-Marshall Electric Cooperative NITSA and NOA to be effective 9/1/2023.

Filed Date: 6/27/23.

Accession Number: 20230627-5090.

Comment Date: 5 p.m. ET 7/18/23.

Docket Numbers: ER23-2271-000.

Applicants: Southwest Power Pool, Inc.

Description: § 205(d) Rate Filing: 2415R18 Kansas Municipal Energy Agency NITSA and NOA to be effective 9/1/2023.

Filed Date: 6/27/23.

Accession Number: 20230627-5098.

Comment Date: 5 p.m. ET 7/18/23.

Docket Numbers: ER23-2272-000.

Applicants: DRW Energy Trading LLC.

Description: Baseline eTariff Filing: Baseline new to be effective 7/5/2023.

Filed Date: 6/27/23.

Accession Number: 20230627-5121.

Comment Date: 5 p.m. ET 7/18/23.

Take notice that the Commission received the following electric securities filings:

Docket Numbers: ES23-52-000.

Applicants: Montana-Dakota Utilities Co.

Description: Application Under Section 204 of the Federal Power Act for Authorization to Issue Securities of Montana-Dakota Utilities Co.

Filed Date: 6/26/23.

Accession Number: 20230626-5181.

Comment Date: 5 p.m. ET 7/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 27, 2023.
Debbie-Anne A. Reese,
Deputy Secretary.

[FR Doc. 2023-14059 Filed 6-30-23; 8:45 am]

BILLING CODE 6717-01-P